DEPARTMENT OF LABOR

Employee Benefits Security Administration

154th Meeting of the Advisory Council on Employee Welfare and Pension Benefit Plans; Notice of Meeting

Pursuant to the authority contained in Section 512 of the Employee Retirement Income Security Act of 1974 (ERISA), 29 U.S.C. 1142, the 154th open meeting of the Advisory Council on Employee Welfare and Pension Benefit Plans will be held on November 3-4, 2010.

The meeting will take place in C5515 Room 1A, U.S. Department of Labor, 200 Constitution Avenue, NW., Washington, DC 20210 on November 3, from 1 p.m. to approximately 5 p.m. On November 4, the meeting will start at 9 a.m. and conclude at approximately 3:30 p.m., with a break for lunch. The purpose of the open meeting is for the Advisory Council members to finalize their recommendations to be presented by the Advisory Council to the Secretary. At the November 4 afternoon session, the Council members will receive an update from the Assistant Secretary of Labor for the Employee Benefits Security Administration (EBSA) and present their recommendations.

The Council recommendations will be on the following issues: (1) Healthcare Literacy, (2) Disparities for Women and Minorities in Retirement, and (3) Employee Benefit Plan Auditing and Financial Reporting Models. Descriptions of these topics are available on the Advisory Council page of the EBSA Web site at http://www.dol.gov/ebsa/aboutebsa/erisa_advisory_council.html.

Organizations or members of the public wishing to submit a written statement may do so by submitting 30 copies on or before October 26, 2010 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Relevant statements received on or before October 26, 2010 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by October 26 at the address indicated.

Signed at Washington, DC, this 15th day of October, 2010.
Michael L. Davis,
Deputy Assistant Secretary, Employee Benefits Security Administration.

[FR Doc. 2010-26441 Filed 10-18-10; 11:15 am]

BILLING CODE 4510-29-P